DEPARTMENT OF LABOR

Comment Request for Proposed Information Collection for Occupational Code Assignment; Extension Without Revisions

AGENCY: Employment and Training Administration.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the collection of data about the Occupational Code Assignment Form (ETA 741), which expires on January 31, 2010. A copy of the proposed information collection request (ICR) can be obtained by contacting the office listed below in the ADDRESSES section of this notice.

DATES: Written comments must be submitted to the office listed in the addressee's section below on or before January 29, 2010.

ADDRESSES: Submit written comments to Lauren Fairley-Wright, Office of Workforce Investment, Employment and Training Administration, Mail Stop S-4231, 200 Constitution Avenue, NW., Washington, DC 20210, Phone: (202) 693-3731 (This is not a toll-free number), Fax: (202) 693-3015, or e-mail: wright.lauren@dol.gov.

SUPPLEMENTARY INFORMATION: I. Background: The Occupational Code Assignment form (ETA 741) was developed as a public service to the users of the Occupational Information Network (O*NET), in an effort to help them in obtaining occupational codes and titles for jobs that they were unable to locate in O*NET.

The O*NET system classifies nearly all jobs in the United States economy. However, new specialties are constantly evolving and emerging. The use of the OCA is voluntary and is provided (1) As a uniform format to the public and private sector to submit information in order to receive assistance in identifying an occupational code, (2) to provide input to a database of alternative (lay) titles to facilitate searches for occupational information in the O*NET OnLine (http://online.onetcenter.org), O*NET Code Connector (http://www.onetcodeconnector.org), as well as America's Career InfoNet (http://www.acinet.org), and (3) to assist the O*NET system in identifying potential occupations that may need to be included in future O*NET data collection efforts. The OCA process is designed to help the occupational information user relate an occupational specialty or a job title to an occupational code and title within the framework of the Standard Occupational Classification (SOC) based O*NET system. The O*NET-SOC system consists of a database that organizes the work done by individuals into approximately 1,000 occupational categories. In addition, O*NET occupations have associated data on the importance and level of a range of occupational characteristics and requirements, including Knowledge, Skills, Abilities, Tasks, and Work Activities. Since the O*NET-SOC system is based on the 2000 SOC system, identifying an O*NET-SOC code and title also facilitates linkage to National, State, and local occupational employment and wage estimates.

II. Review Focus:

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions:

Type of Review: extension without changes.

Title: Occupational Code Assignment.

OMB Number: 1205-0137.

Affected Public: Federal government, state and local government, business or other for-profit/non-profit institutions, and individuals.

Form: ETA-741.

Total Respondents: 30.

Frequency: On occasion.

Summary of Annual Burden for the Occupational Code Assignment
Form | Requests per year ¹ | Hours/ request ² | Hours burden used | Salary expenditure used ³ (hours x hourly income)
OCA—Part A | 30 | .58 | 15.51 | $653.75
¹ Estimate based on average for January 2007 through September 2009.
² Estimates on OCA form—Part A = 30 minutes.
³ Salary based on America's Career InfoNet data for Human Resource Manager, median income = $42.15/hour.

Total Burden Cost (capital/startup): 0.

Total Burden Cost (operating/maintaining): 0.

Average Time per Response: 30 minutes for the OCA Part A; 40 minutes for the OCA Part A and OCA Request for Additional Information combined.

Estimated Total Burden Hours: 15.51.

Comments submitted in response to this notice request will be summarized and/or included in the request for Office of Management and Budget approval of the information collection request; they will also become a matter of public record.

Signed at Washington, DC, this 10th day of November 2009.
Jane Oates,
Assistant Secretary, Employment and Training Administration.

[FR Doc. E9-28501 Filed 11-27-09; 8:45 am]

BILLING CODE 4510-FN-P